DEPARTMENT OF DEFENSE

Office of the Secretary

[Transmittal Nos. 11-14]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-14 with attached transmittal, policy justification, and Sensitivity of Technology.

Dated: September 6, 2011.
Aaron Siegel,
Alternate OSD Federal Register Liaison Officer, Department of Defense.

Transmittal No. 11-14

Notice of Proposed Issuance of Letter of Offer Pursuant to Section 36(b)(1) of the Arms Export Control Act, as amended

(i) Prospective Purchaser: Peru

(ii) Total Estimated Value:

Major Defense Equipment * | $ 0 million
Other | $ 50 million
TOTAL | $ 50 million
* as defined in Section 47(6) of the Arms Export Control Act.

(iii) Description and Quantity or Quantities of Articles or Services under Consideration for Purchase: 4 each MK57 MOD 10 NATO SEASPARROW Surface Missile Systems (NSSMS) without RIM-7 missiles, MK57 Installation and Check Out (INCO) kits, spare and repair parts, support and test equipment, publications and technical documentation, personnel training, U.S. Government and contractor engineering, technical and logistics support services, and other related elements of logistical and program support.

(iv) Military Department: Navy (LBC)

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: August 24, 2011.

POLICY JUSTIFICATION

Peru—NATO SEASPARROW Surface Missile Systems

The Government of Peru has requested a possible sale of four (4) each MK57 MOD 10 NATO SEASPARROW Surface Missile Systems (NSSMS) without RIM-7 missiles, MK57 Installation and Check Out (INCO) Kits, spare and repair parts, support and test equipment, publications and technical documentation, personnel training, U.S. Government (USG) and contractor engineering, technical and logistics support services, and other related elements of logistical and program support. The estimated cost is $50 million.

This proposed sale will contribute to the foreign policy and national security of the United States by helping to improve the security of Peru which has been, and continues to be, an important force for political stability and economic progress in South America.

The proposed sale will improve Peru's capability to meet current and future threats of enemy anti-ship weapons. Peru will use the enhanced capability of the MK57 MOD 10 NSSMS on its four LUPO class (aka Aguirre) Class frigates purchased from Italy in 2004. The frigates have MK57 MOD 2 NATO SEASPARROW Systems modified to fire the ASPIDE air defense missile. The systems retain the ability to fire the RIM-7 SEASPARROW missile, and Peru intends to move from the ASPIDE missile to the RIM-7 SEASPARROW in a future purchase. Peru, which already has MK 57 Missile Systems, will have no difficulty absorbing these additional systems into its inventory.

The proposed sale of this equipment will not alter the basic military balance in the region.

The prime contractors will be Raytheon Technical Service Company in Norfolk, VA and Raytheon Integrated Defense Systems in Portsmouth, RI. There are no known offset agreements proposed in connection with this potential sale.

Implementation of this proposed sale will not require the assignment of any additional U.S. Government or contractor representatives to Peru.

There will be no adverse impact on U.S. defense readiness as a result of this proposed sale.

Transmittal No. 11-14

Notice of Proposed Issuance of Letter of Offer Pursuant to Section 36(b)(1) of the Arms Export Control Act, as amended

Annex

Item No. vii

(vii) Sensitivity of Technology:

1. The sale of the MK 57 Mod 10 NSSMs under this proposed sale will result in the transfer of sensitive technological information to Peru. Both classified and unclassified defense equipment will be involved. Specifically, the MK 73 Mod 3 Solid State Transmitter is Secret and contains sensitive technology.

2. If a technologically advanced adversary were to obtain knowledge of the specific hardware and software elements, the information could be used to develop countermeasures that might reduce weapon system effectiveness or be used in the development of a system with similar or advanced capabilities.

[FR Doc. 2011-23181 Filed 9-9-11; 8:45 am]

BILLING CODE 5001-06-P